DEPARTMENT OF HOUSING AND URBAN DEVELOPMENT

[Docket No: FR-6146-N-01]

Privacy Act of 1974; Matching Program

AGENCY: Office of Administration, HUD.

ACTION: Notice of a new matching program.

SUMMARY: Pursuant to the Computer Matching and Privacy Protection Act of 1988, as amended, HUD is providing notice of its intent to execute a new computer matching agreement with Social Security Administration for a recurring matching program with HUD's Office of Public and Indian Housing (PIH) and Office of Housing, involving comparisons of SSN's and benefit information provided by participants in any authorized HUD rental housing assistance program. HUD will obtain SSA data and make the results available to: (1) Program administrators such as public housing agencies (PHAs) and private owners and management agents (O/As) (collectively referred to as POAs) to enable them to verify the accuracy of income reported by the tenants (participants) of HUD rental assistance programs and (2) contract administrators (CAs) overseeing and monitoring O/A operations as well as independent public auditors (IPAs) that audit both PHAs and O/As.

The most recent renewal of the current matching agreement will expire on May 7, 2019.

DATES: The computer matching agreement (CMA) will become applicable at the later of the following two dates: May 8, 2019 or 30 days after the publication of this notice, unless comments have been received from interested members of the public requiring modification and republication of the notice. The matching program will continue for 18 months after the applicable date and may be extended for an additional 12 months, if the respective agency Data Integrity Boards (DIBs) determine that the conditions specified in 5 U.S.C. 552a(o)(2)(D) have been met.

ADDRESSES: Interested persons are invited to submit comments regarding this notice at www.regulations.gov or to the Rules Docket Clerk, Office of General Counsel, Department of Housing and Urban Development, 451 Seventh Street, Room 10110, SW, Washington, DC 20410. Communications should refer to the above docket number. A copy of each communication submitted will be available for public inspection and copying between 8:00 a.m. and 5:00 p.m. weekdays at the above address. Persons with hearing or speech impairments may access this number through TTY by calling the toll-free Federal Relay service at (800) 877-8339.

FOR FURTHER INFORMATION CONTACT: John Bravacos, Departmental Privacy Officer, Department of Housing and Urban Development, 451 Seventh Street SW, Room 10226, Washington, DC 20410, telephone number (202) 402-6064. This is not a toll-free number. A telecommunication device for hearing- and speech-impaired individuals (TTY) is available at (800) 877-8339 (Federal Relay Service).

SUPPLEMENTARY INFORMATION: This notice supersedes a similar notice published in the Federal Register on October 3, 2016, at 81 FR 68026. Administrators of HUD rental assistance programs rely upon the accuracy of tenant-reported income to determine participant eligibility for and level of, rental assistance. The computer matching program may provide indicators of potential tenant unreported or under-reported income, which will require additional verification to identify inappropriate or inaccurate rental assistance and may provide indicators for potential administrative or legal actions. The matching program will be carried out to detect inappropriate or inaccurate rental assistance under sections 221(d)(3), 221(d)(5), and 236 of the National Housing Act, the United States Housing Act of 1937, section 101 of the Housing and Community Development Act of 1965, section 202 of the Housing Act of 1959, section 811 of the Cranston-Gonzalez National Affordable Housing Act, the Native American Housing Assistance and Self-Determination Act of 1996, and the Quality Housing and Work Responsibility Act (QHWRA) of 1998. On March 11, 2009, Section 239 of HUD's 2009 Appropriations Act modified Section 904 of the Stewart B. McKinney Act of 1988, as amended, to include the Disaster Housing Assistance program (DHAP) as a covered HUD rental assistance program in HUD computer matching activities. Specifically, the computer matching program will match HUD's tenant data to SSA's death data, Social Security (SS) and Supplemental Security Income (SSI) benefits data.

Participating Agencies: Department of Housing and Urban Development and the Social Security Administration.

Authority for Conducting the Matching Program: This matching program is being conducted pursuant to the Privacy Act of 1974 (5 U.S.C 552a); 542(b) of the 1998 Appropriations Act (Pub. L. 105-65); section 904 of the Stewart B. McKinney Homeless Assistance Amendments Act of 1988 (42 U.S.C. 3544); section 165 of the Housing and Community Development Act of 1987 (42 U.S.C. 3543); the National Housing Act (12 U.S.C. 1701-1750g); the United States Housing Act of 1937 (42 U.S.C. 1437-1437z); section 101 of the Housing and Community Development Act of 1965 (12 U.S.C. 1701s); the Native American Housing Assistance and Self-Determination Act of 1996 (25 U.S.C. 4101 et seq.); and the QHWRA Act of 1998 (42 U.S.C. 1437a(f)). The Housing and Community Development Act of 1987 authorizes HUD to require participants of HUD rental housing assistance programs to disclose their social security numbers (SSNs) to HUD as a condition of continuing (or initial) eligibility for participation in the programs. The QHWRA of 1998, section 508(d), 42 U.S.C. 1437a(f) authorizes the Secretary of HUD to require disclosure by the tenant to the PHA of income information received by the tenant from HUD as part of the income verification procedures of HUD. The QHWRA was amended by Public Law 106-74, which extended the disclosure requirements to participants in section 8, section 202, and section 811 assistance programs. The participants are required to disclose the HUD-provided income information to owners responsible for determining the participant's eligibility or level of benefits.

The Refinement of Income and Rent Determination Requirements in Public and Assisted Housing Programs: Implementation of the Enterprise Income Verification (EIV) System—Amendments; Final Rule published at 74 FR 68924 on December 29, 2009, requires program administrators to use HUD's EIV system to verify tenant income information during mandatory reexaminations or recertifications of family composition and income; and reduce administrative and subsidy payment errors in accordance with HUD administrative guidance (24 CFR 5.233).

This computer matching program also assists HUD in complying with the following federal laws, requirements, and guidance related to identifying and reducing improper payments:

1. Improper Payments Elimination and Recovery Act of 2010 (IPERA) (Pub. L. 111-204);

2. Presidential Memorandum on Enhancing Payment Accuracy Through a “Do Not Pay List” (June 18, 2010);

3. Office of Management and Budget M-10-13, Issuance of Part III to OMB Circular A-123, Appendix C;

4. Presidential Memorandum on Finding and Recapturing Improper Payments (March 10, 2010);

5. Reducing Improper Payments and Eliminating Waste in Federal Programs (Executive Order 13520, November 2009);

6. Improper Payments Information Act of 2002 (Pub. L. 107-300); and

7. Office of Management and Budget M-03-13, Improper Payments Information Act of 2002 Implementation Guide.

Purpose(s): HUD's primary objective of the computer matching program is to verify the income of participants in certain rental assistance programs to determine the appropriate level of rental assistance, and to detect, deter and correct fraud, waste, and abuse in rental housing assistance programs. In meeting these objectives, HUD also is carrying out a responsibility under 42 U.S.C. 1437f(K) to ensure that income data provided to PHAs, and O/As, by household members is complete and accurate. HUD's various rental housing assistance programs require that participants meet certain income and other criteria to be eligible for rental assistance. In addition, tenants generally are required to report and recertify the amounts and sources of their income at least annually. However, under the Quality Housing and Work Responsibility Act (QHWRA) of 1998, PHAs operating Public Housing programs may offer tenants the option to pay a flat rent, or an income-based rent. Those tenants who select a flat rent will be required to recertify income at least every three years. In addition, the changes to the Admissions and Occupancy final rule (March 29, 2000 (65 FR 16692)) specified that household composition must be recertified annually for tenants who select a flat rent or income-based rent.

Other objectives of this computer matching program include: (1) Increasing the availability of rental assistance to individuals who meet the requirements of the rental assistance programs; (2) after removal of personal identifiers, conducting analyses of the Social Security death data and benefit information, and income reporting of program participants; and (3) measure improper payments due to under-reporting of income and/or overpayment of subsidy on behalf of deceased program participants.

Categories of Individuals

Covered Programs

This notice of computer matching program applies to individuals receiving assistance from the following rental assistance programs:

A. Disaster Housing Assistance Program (DHAP)

B. Public Housing

C. Section 8 Housing Choice Vouchers (HCV)

D. Project-Based Vouchers

E. Section 8 Moderate Rehabilitation

F. Project-Based Section 8

1. New Construction

2. State Agency Financed

3. Substantial Rehabilitation

4. Sections 202/8

5. Rural Housing Services Section 515/8

6. Loan Management Set-Aside (LMSA)

7. Property Disposition Set-Aside (PDSA)

G. Section 101 Rent Supplement

H. Section 202/162 Project Assistance Contract (PAC)

I. Section 202 Project Rental Assistance Contract (PRAC)

J. Section 811 Project Rental Assistance Contract (PRAC)

K. Section 236 Rental Assistance Program

L. Section 221(d)(3) Below Market Interest Rate (BMIR)

Note: This notice does not apply to the Low-Income Housing Tax Credit (LIHTC) or the Rural Housing Services Section 515 without Section 8 programs.

Categories of Records: The following are the categories of record in this matching agreement:

HUD will provide SSA with the following information for each individual for whom HUD requests information:

• First name

• Last name

• SSN

• DOB

SSA will provide HUD with the following information for each individual for whom HUD requests information:

• The amount of monthly benefits for each recipient of Title II, Title XVI, and Title VIII benefits

• SSN match/no match response

• In the case of a “no match”, the reason for the no match response in the form of an error code.

System(s) of Records: SSA will conduct the matching of tenant SSNs and additional identifiers (surnames and dates of birth) to tenant data that HUD supplies from its systems of records known as the Tenant Rental Assistance Certification System (TRACS), a component of HUD's Tenant Housing Assistance and Contract Verification Data System (HUD/H-11), and the Inventory Management System (IMS), formerly known as the Public and Indian Housing Information Center (PIC) (HUD/PIH.01). The notice for these systems was published at 81 FR 56684 on August 22, 2016, and 77 FR 22337 on April 13, 2012, respectively. Program administrators utilize the form HUD-50058 module within the PIC system and the form HUD-50059 module within the TRACS to provide HUD with the tenant data.

SSA will match the tenant records included in HUD/H-11 and HUD/PIH-4 to their systems of records known as SSA's Master Files of Social Security Number Holders, and SSN Applications (60-0058), published at 75 FR 82121 on December 29, 2010; Master Beneficiary Record (60-0090), published at 71 FR 1826 on January 11, 2006; and Supplemental Security Income Record and Special Veterans Benefits (60-0103), published at 71 FR 1830 on January 11, 2006. HUD will place the resulting matched data into its Enterprise Income Verification (EIV) system (HUD/PIH-5). The notice for this system was initially published at 70 FR 41780 on July 20, 2005, and last amended on September 1, 2009 (74 FR 45235). The tenant records (one record for each family member) include these data elements: Full name, SSN, and date of birth.

HUD data will also be matched to the SSA's Master Files of Social Security Number Holders, and SSN Applications (60-0058) for the purpose of validating SSNs of participants of HUD rental assistance programs to identify noncompliance with program eligibility requirements. HUD will compare tenant SSNs provided by POAs to reveal duplicate SSNs and potential duplicate rental assistance.

Dated: March 21, 2019.
John Bravacos,
Senior Agency Official for Privacy.

[FR Doc. 2019-05763 Filed 3-25-19; 8:45 am]

BILLING CODE 4210-67-P